DEPARTMENT OF DEFENSE

Department of the Navy

Notice of Intent for Naval Station Newport Water and Wastewater Infrastructure Divestment

AGENCY: Department of the Navy (DON), Department of Defense (DoD).

ACTION: Notice.

SUMMARY: The DON (or “Government”) is issuing this solicitation to enter into a land conveyance agreement (“Solicitation”) to convey Naval Station Newport's (“NS Newport”) water and wastewater infrastructure, located in Newport, RI. The Navy is investigating the use of the Exchange Pilot Authority to execute a long-term divestment strategy for the water and wastewater infrastructure at Naval Station Newport. The DON vision is to divest of the Government owned class II property via a Bill of Sale, then enter into a mutually beneficial real estate agreement containing the easement area for the utilities traversing the DON property, whereby an interested eligible party maintains the infrastructure and provides water and wastewater services to the installation, Government entities and surrounding community via a Utility Service Contract. In-Kind Consideration (IKC) will be provided to the DON in the form of credit towards the water and wastewater bill.

DATES: The Secretary concerned shall submit a copy of the Federal Registrar notice to ASD(S) no later than 7 calendar days prior to notification. Request for Proposals (RFP) will be released to SAM.gov on December 13, 2024.

FOR FURTHER INFORMATION CONTACT: Command NAVFAC MIDLANT NORFOLK, Attn: Heather Stadler, Deputy Director Real Estate Division, 757-341-2000 heather.m.stadler2.civ@us.navy.mil.

SUPPLEMENTARY INFORMATION: DON is seeking a potential offer to demonstrate the following qualifications in response to the Request for Proposal. Summary of relevant experience, past and present performance, financial information/history, as well as Development Plan and Maintenance and Management Capability. The submitted information will assist DON in selecting one offeror to move forward into exclusive and technical negotiations. The following entities have been identified as potential offerors due to their response to the Request For Information (RFI), released on March 8, 2024: American Water, Carver Water, and ASUS.

Naval Station Newport, on behalf of DON, is currently responsible for the operation, maintenance, distribution, and capital improvements of the Installation's Potable Water and Wastewater Infrastructure. Due to limited manpower, funding, and utilization, the Business Case Analysis (BCA) determined it is the best interest of DON to divest these assets and associated operations to an eligible entity willing and able to enter into an Exchange Agreement with the DON. The infrastructure proposed is owned by the Government, who is responsible for the operation and maintenance. The Navy infrastructure ties into larger City of Newport (“City”)-operated systems, and the City provides water and wastewater services to both Government and private customers. The underlying property is primarily owned by the DON, but exceptions exist where the DON is required to provide services on non-Government owned land or where DON infrastructure runs on or through non-Government owned land to connect with the City provider of potable water and wastewater treatment or provide services to private customers. The DON will continue operating under its agreements with the City for purchase of the commodities, particularly related to its rate determinations and allowable allocations.

The DON expects the selected offeror to acquire the utility infrastructure and approximately 464.44 acres of property surrounding the system.

The potable water distribution infrastructure consists of two separate licensed potable infrastructure that are regulated by the Rhode Island Department of Health (RIDOH). These two infrastructures are for the Main Base and Fort Adams. The infrastructure consists of approximately 55 miles of distribution piping, four fire pump stations and four underground reservoirs. Potable water is purchased from the City of Newport through metered connections.

The water infrastructure consists of the following components:

• Four (4) fire pumping stations;

• Four (4) underground reservoirs;

• 520 fire hydrants;

• 3,000 valves; and

• 55 miles of potable water line.

The Naval Station Newport wastewater collection and pumping system includes systems across the installation serving Coasters Harbor Island, Coddington Cove, Coddington Point, the Naval Undersea Warfare Center (NUWC), Navy Housing, and other activities. There are a total of 15 service areas that make up the sanitary sewer collection system. Additionally, sewage flows from private customers that purchase water directly from the municipality and are directed to the NAVSTA sanitary sewer system. The sewer collection system consists of approximately 33 miles of gravity lines, six miles of force mains, and 15 pump stations. Wastewater is discharged through three main connections to the City of Newport. These are pump stations 48 (Coddington Cove), 68 (Training Station), and 338 (Coddington Point). The average sewage flow for Naval Station Newport is approximately 1 million gallons per day. Naval Station Newport purchases all of its wastewater treatment services from the City of Newport.

The City of Newport recently completed a $35M+ capital improvement project at the wastewater treatment plant facility and the Navy provided funding in the amount of $5.863M in FY20 for the Navy proportional share of these improvements.

The wastewater collection infrastructure can be broken down as follows:

• 33 miles of gravity service mains;

• six miles of force mains;

• 790 manholes; and

• 16 pump stations.

Minimum Fair Market Value: An appraisal will be completed by the Selected Offeror during Phase II of the RFP in accordance with the Uniform Standards of Professional Appraisal Practice (USPAP) and reviewed by a government appraiser. The appraisal will be completed after the survey of the infrastructure has been accepted and will establish the minimum fair market value.

Authority: Under the use of 10 U.S.C 2869, Exchange of Property at Military Installations, as further amended by section 2862 for the William M. “Mac” Thornberry National Defense Authorization Act (NDAA) for Fiscal Year 2021, as implemented by the Office of the Assistant Secretary of Defense (Sustainment) Memo, “Establishment of Pilot Program to Expand Real Property Exchange Authority”, dated 30 June 2021, the DON is investigating the divestment of the water and wastewater infrastructure at Naval Station Newport. In exchange, DON is seeking IKC, as authorized under the authority, to include the five-year pilot program, to exercise temporary expanded real property exchange authority to accept installation support services (as defined in 10 U.S.C. 2679(f)).

Dated: November 25, 2024.
A.J. Gioiello,
Lieutenant Commander, Judge Advocate General's Corps, U.S. Navy, Federal Register Liaison Officer.

[FR Doc. 2024-28030 Filed 11-27-24; 8:45 am]

BILLING CODE 3810-FF-P